SMALL BUSINESS ADMINISTRATION

[Disaster Declaration #20977 and #20978; KENTUCKY Disaster Number KY-20013]

Presidential Declaration of a Major Disaster for the Commonwealth of Kentucky

AGENCY: U.S. Small Business Administration.

ACTION: Notice.

SUMMARY: This is a Notice of the Presidential declaration of a major disaster for the Commonwealth of Kentucky (FEMA-4860-DR), dated February 24, 2025.

Incident: Severe Storms, Straight-line Winds, Flooding, Landslides, and Mudslides.

DATES: Issued on February 24, 2025.

Incident Period: February 14, 2025 and continuing.

Physical Loan Application Deadline Date: April 25, 2025.

Economic Injury (EIDL) Loan Application Deadline Date: November 24, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: Notice is hereby given that as a result of the President's major disaster declaration on February 24, 2025, applications for disaster loans may be submitted online using the MySBA Loan Portal https://lending.sba.gov or other locally announced locations. Please contact the SBA disaster assistance customer service center by email at disastercustomerservice@sba.gov or by phone at 1-800-659-2955 for further assistance.

The following areas have been determined to be adversely affected by the disaster:

Primary Counties (Physical Damage and Economic Injury Loans): Breathitt, Clay, Harlan, Knott, Lee, Letcher, Martin, Owsley, Perry, Pike.

Contiguous Counties (Economic Injury Loans Only):

Kentucky: Bell, Estill, Floyd, Jackson, Johnson, Knox, Laurel, Lawrence, Leslie, Magoffin, Powell, Wolfe.

Virginia: Buchanan, Dickenson, Lee, Wise.

West Virginia: Mingo, Wayne.

The Interest Rates are:

| Percent
For Physical Damage:
Homeowners with Credit Available Elsewhere | 5.125
Homeowners without Credit Available Elsewhere | 2.563
Businesses with Credit Available Elsewhere | 8.000
Businesses without Credit Available Elsewhere | 4.000
Non-Profit Organizations with Credit Available Elsewhere | 3.625
Non-Profit Organizations without Credit Available Elsewhere | 3.625
For Economic Injury:
Business and Small Agricultural Cooperatives without Credit Available Elsewhere | 4.000
Non-Profit Organizations without Credit Available Elsewhere | 3.625

The number assigned to this disaster for physical damage is 209776 and for economic injury is 209780.

(Catalog of Federal Domestic Assistance Number 59008)

James Stallings,
Associate Administrator, Office of Disaster Recovery & Resilience.

[FR Doc. 2025-03332 Filed 2-28-25; 8:45 am]

BILLING CODE 8026-09-P